FEDERAL TRADE COMMISSION

Sunshine Act Meeting Notice

AGENCY: Federal Trade Commission.

ACTION: Oral argument.

DATES: October 28, 2011 at 2 p.m.

PLACE: Federal Trade Commission Building, Room 532, 600 Pennsylvania Avenue, NW., Washington, DC 20580.

STATUS: Part of this meeting will be open to the public. The rest of the meeting will be closed to the public.

MATTERS TO BE CONSIDERED: Portion Open to the Public:

(1) Oral Argument in The North Carolina Board of Dental Examiners, Docket 9343

Portion Closed to the Public:

(2) Executive Session to follow Oral Argument in The North Carolina Board of Dental Examiners, Docket 9343.

CONTACT PERSON FOR MORE INFORMATION: Mitch Katz, FTC, Office of Public Affairs, 600 Pennsylvania Avenue, NW., Washington, DC 20580, (202) 326-2180; Recorded Message: (202) 326-2711

By direction of the Commission.
Donald S. Clark,
Secretary.

[FR Doc. 2011-27261 Filed 10-21-11; 8:45 am]

BILLING CODE 6750-01-M